ENVIRONMENTAL PROTECTION AGENCY

[FRL-8043-6]

National Advisory Council for Environmental Policy and Technology

AGENCY: Environmental Protection Agency (EPA).

ACTION: Notice of meeting.

SUMMARY: Under the Federal Advisory Committee Act, Public Law 92463, EPA gives notice of a public teleconference of the National Advisory Council for Environmental Policy and Technology (NACEPT). NACEPT provides advice to the EPA Administrator on a broad range of environmental policy, technology, and management issues. The Council is a panel of experts who represent diverse interests from academia, industry, non-governmental organizations, and local, state, and tribal governments. The purpose of this teleconference is two-fold: To discuss and approve recommendations from the NACEPT Environmental Technology Subcommittee and to discuss and approve comments on the Draft 2006-2011 EPA Strategic Plan Architecture from a subset of the Council. A copy of the agenda for the meeting will be posted at http://www.epa.gov/ocem/nacept/cal-nacept.htm.

DATES: NACEPT will hold a public teleconference on Wednesday, March 22, 2006 from 10:30 a.m.-12:30 p.m. Eastern Time.

ADDRESSES: The meeting will be held in the U.S. EPA Office of Cooperative Environmental Management at 655 15th Street, NW., Suite 800, Washington, DC 20005.

FOR FURTHER INFORMATION CONTACT: Sonia Altieri, Designated Federal Officer, altieri.sonia@epa.gov, (202) 233-0061, U.S. EPA, Office of Cooperative Environmental Management (1601E), 1200 Pennsylvania Avenue NW., Washington, DC 20460.

SUPPLEMENTARY INFORMATION: Requests to make oral comments or to provide written comments to the Council should be sent to Sonia Altieri, Designated Federal Officer, at the contact information above by March 17, 2006. The public is welcome to attend all portions of the meeting, but seating is limited and is allocated on a first-come, first-serve basis. Members of the public wishing to gain access to the conference room on the day of the meeting must contact Sonia Altieri at (202) 233-0061 or altieri.sonia@epa.gov by Tuesday, March 21, 2006.

Meeting Access: For information on access or services for individuals with disabilities, please contact Sonia Altieri at (202) 233-0061 or altieri.sonia@epa.gov. To request accommodation of a disability, please contact Sonia Altieri, preferably at least 10 days prior to the meeting, to give EPA as much time as possible to process your request.

Dated: February 28, 2006.
Sonia Altieri,
Designated Federal Officer.

[FR Doc. E6-3342 Filed 3-8-06; 8:45 am]

BILLING CODE 6560-50-P